NUCLEAR REGULATORY COMMISSION

Sunshine Notice

AGENCY HOLDING THE MEETING: Nuclear Regulatory Commission.

DATE: Weeks of August 6, 13, 20, 27, September 3, 10, 2001.

PLACE: Commissioners' Conference Room, 11555 Rockville Pike, Rockville, Maryland.

STATUS: Public and Closed.

Matters To Be Considered

Week of August 6, 2001

There are no meetings scheduled for the Week of August 6, 2001.

Week of August 13, 2001—Tentative

Tuesday, August 14, 2001

9:30 a.m. Briefing on NRC International Activities (Public Meeting) (Contact: Elizabeth Doroshuk, 301-415-2775)

Wednesday, August 15, 2001

9:30 a.m. Briefing on EEO Program (Public Meeting) (Contact: Irene Little, 301-415-7380)

1:25 p.m. Affirmation Session (Public Meeting) (If needed)

1:30 p.m. Meeting with Organization of Agreement States (OAS) and Conference of Radiation Control Program Directors (CRCPD) (Public Meeting) (Contact: John Zabko, 301-415-1277)

Week of August 20, 2001—Tentative

There are no meetings scheduled for the Week of August 20, 2001.

Week of August 27, 2001—Tentative

There are no meetings scheduled for the Week of August 27, 2001.

Week of September 3, 2001—Tentative

There are no meetings scheduled for the Week of September 3, 2001.

Week of September 10, 2001—Tentative

There are no meetings scheduled for the Week of September 10, 2001.

The schedule for Commission meetings is subject to change on short notice. To verify the status of meetings call (recording)—(303) 415-1292. Contact person for more information: David Louis Gamberoni (301) 415-1651.

Additional Information

By a vote of 4-0 on July 30, the Commission determined pursuant to U.S.C. 552b(e) and § 9.107(a) of the Commission's rules that “Affirmation of International Uranium (USA) Corporation (Source Material License Amendment, License No. SUA-1358) Docket No. 40-8681-MLA-8; Review of LBP-01-08” be held on July 30, and on less than one week's notice to the public.

* * * * *

The NRC Commission Meeting Schedule can be found on the Internet at: http://www.nrc.gov/SECY/smi/schedule.htm

* * * * *

This notice is distributed by mail to several hundred subscribers; if you no longer wish to receive it, or would like to added to the distribution, please contact the Office of the Secretary, Washington, DC 20555 (301-415-1969). In addition, distribution of this meeting notice over the Internet system is available. If you are interested in receiving this Commission meeting schedule electronically, please send an electronic message to dkw@nrc.gov.

Dated: August 2, 2001.
David Louis Gamberoni,
Technical Coordinator, Office of the Secretary.

[FR Doc. 01-19874 Filed 8-3-01; 12:49 am]

BILLING CODE 7590-01-M